DEPARTMENT OF TRANSPORTATION

Federal Aviation Administration

Aviation Rulemaking Advisory Committee; Air Carrier Operations Issues—New Task

AGENCY: Federal Aviation Administration (FAA), DOT.

ACTION: Notice of new task assignment for the Aviation Rulemaking Advisory Committee (ARAC).

SUMMARY: Notice is given of a new task assigned to and accepted by the Aviation Rulemaking Advisory Committee (ARAC). This notice informs the public of the activities of ARAC.

FOR FURTHER INFORMATION CONTACT: Eric Van Opstal, Federal Aviation Administration (AFS-200), 800 Independence Avenue, SW., Washington, DC 20591; phone (202) 267-3774; fax (202) 267-5229.

SUPPLEMENTARY INFORMATION:

Background

The FAA has established an Aviation Rulemaking Advisory Committee to provide advice and recommendations to the FAA Administrator, through the Associated Administrator for Regulation and Certification, on the full range of the FAA's rulemaking activities with respect to aviation-related issues. One area ARAC deals with is air carrier operations issues. These issues involve the operational requirements for air carriers, including crewmember requirements, airplane operating performance and limitations, and equipment requirements.

The Task

This notice informs the public that the FAA has asked ARAC to provide advice and recommendation on the following task:

Extended Range Operations with Two-Engine Aircraft (ETOPS)

1. Review the existing policy and requirements found in Advisory Circular (AC) 120-42A, applicable ETOPS special conditions, and policy memorandums and notices, for certification and operational regulations and guidance material for ETOPS approvals up to 180 minutes.

2. Develop comprehensive ETOPS airworthiness standards for 14 CFR parts 25, 33, 121, and 135, as appropriate, to codify the existing policies and practices.

3. Develop ETOPS requirements for operations and excess of 180 minutes up to whatever extent that may be justified. Develop those requirements such that incremental approvals up to a maximum may be approved.

4. Develop standardized requirements for extended range operations for all airplanes, regardless of the number of engines, including all turbojet and turbopropeller commercial twin-engine airplanes (business jets), excluding reciprocating engine powered commercial airplanes. This effort should establish criteria for diversion times up to 180 minutes that is consistent with existing ETOPS policy and procedures. It should also develop criteria for diversion times beyond 180 minutes that is consistent with the ETOPS criteria developed by the working group.

5. Develop additional guidance and/or advisory material as the ARAC finds appropriate.

6. Harmonize such standardized requirements across national boundaries and regulatory bodies.

7. Any proposal to increase the safety requirements for existing ETOPS approvals up to 207 minutes must contain data defining the unsafe conditions that would warrant the safety requirements.

8. The working group will provide briefings to the Transport Airplane and Engine Issues group.

9. The recommendations should consider the comments received as a result of the April 27, 1999 and January 21, 2000 Federal Register notices.

10. Within one year of publication of the ARAC task in the Federal Register, submit recommendations to the FAA in the form of a proposed rule.

Working Group Activity

The ETOPS Working Group is expected to comply with the procedures adopted by ARAC. As part of the procedures, the working group is expected to:

1. Recommend a work plan for completion of the tasks, including the rationale supporting such a plan, for consideration at the meeting of ARAC to consider air carrier operations issues held following publication of this notice.

2. Give a detailed conceptual presentation of the proposed recommendations, prior to a proceeding with the work stated in item 3 below.

3. Draft an appropriate report.

4. Provide a status report at each meeting of ARAC held to consider air carrier operations issues.

Participation in the Working Group

The ETOPS Working Group is composed of experts having an interest in the assigned task. A working group member need not be a representative of a member of the full committee.

A person who has expertise in the subject matter and wishes to become a member of the working group should contact Mark Lawyer, Federal Aviation Administration (ARM-107), 800 Independence Avenue, SW., Washington, DC 20591; phone (202) 493-4531; fax (202) 267-5075; email mark_lawyer@faa.gov. The person should describe his or her interest in the tasks and state the expertise he or she would bring to the working group. The request will be reviewed by the assistant chair, the assistant executive director, and the working group chair. The person will be advised whether or not the request can be accommodated. Requests to participate on the ETOPS Working Group should be submitted no later than June 26, 2000. To the extent possible, the composition of the working group will be balanced among the aviation interests selected to participate.

The Secretary of Transportation has determined that the formation and use of ARAC are necessary and in the public interest in connection with the performance of duties imposed on the FAA by law.

Meetings of ARAC will be open to the public. Meetings of the ETOPS Working Group will not be open to the public, except to the extent that individuals with an interest and expertise are selected to participate. No public announcement of working group meetings will be made.

Issued in Washington, DC, on June 7, 2000.
Gregory L. Michael,
Assistant Executive Director for Air Carrier Operations Issues, Aviation Rulemaking Advisory Committee.

[FR Doc. 00-14911 Filed 6-13-00; 8:45 am]

BILLING CODE 4910-13-M